DEPARTMENT OF THE INTERIOR

National Park Service

Notice of Inventory Completion: Denver Museum of Nature & Science, Denver, CO

AGENCY: National Park Service, Interior.

ACTION: Notice.

Notice is here given in accordance with the Native American Graves Protection and Repatriation Act (NAGPRA), 25 U.S.C. 3003, of the completion of an inventory of human remains and associated funerary objects in the control of the Denver Museum of Nature & Science, Denver, CO. The human remains and associated funerary objects were removed from Mesa County, CO; Navajo County, AZ; San Juan County, NM; and an unknown location.

This notice is published as part of the National Park Service's administrative responsibilities under NAGPRA, 25 U.S.C. 3003(d)(3). The determinations in this notice are the sole responsibility of the museum, institution, or Federal agency that has control of the Native American human remains and associated funerary objects. The National Park Service is not responsible for the determinations in this notice.

A detailed assessment of the human remains was made by Denver Museum of Nature & Science professional staff in consultation with the Ak Chin Indian Community of the Maricopa (Ak Chin) Indian Reservation, Arizona; Gila River Indian Community of the Gila River Indian Reservation, Arizona; Hopi Tribe of Arizona; Hualapai Indian Tribe of the Hualapai Indian Reservation, Arizona; Navajo Nation, Arizona, New Mexico & Utah; Ohkay Owingeh, New Mexico (formerly the Pueblo of San Juan); Pueblo of Acoma, New Mexico; Pueblo of Cochiti, New Mexico; Pueblo of Isleta, New Mexico; Pueblo of Jemez, New Mexico; Pueblo of Laguna, New Mexico; Pueblo of Nambe, New Mexico; Pueblo of Picuris, New Mexico; Pueblo of Pojoaque, New Mexico; Pueblo of San Felipe, New Mexico; Pueblo of San Ildefonso, New Mexico; Pueblo of Sandia, New Mexico; Pueblo of Santa Ana, New Mexico; Pueblo of Santa Clara, New Mexico; Pueblo of Santa Domingo, New Mexico; Pueblo of Taos, New Mexico; Pueblo of Tesuque, New Mexico; Pueblo of Zia, New Mexico; Salt River Pima-Maricopa Indian Community of the Salt River Reservation, Arizona; Tohono O'odham Nation of Arizona; Ysleta del Sur Pueblo of Texas; and Zuni Tribe of the Zuni Reservation, New Mexico.

At an unknown date, human remains representing a minimum of one individual were removed from an unspecified location, possibly near Grand Junction, Mesa County, CO. At an unknown date, the human remains came into the possession of Ed Fover of Grand Junction, CO. In 1952, Mr. Fover donated the human remains to the museum (DMNS catalogue number A373.1). No known individual was identified. No associated funerary objects are present.

Mr. Fover identified the human remains as “Basketmaker.” Morphological evidence, such as occipital flattening, supports the identification of the human remains as Native American and possibly as Ancestral Puebloan. Probable provenience in Western Colorado is within the area of Pre-Columbian cultures that archeologists have referred to as “Puebloid,” which is now incorporated under “Ancestral Puebloan.” The estimated age of the human remains is 1000 B.C.-A.D. 750, based on the age of known Basketmaker sites.

In 1965, human remains representing a minimum of one individual were removed from Four Mile Ruin in Taylor, Navajo County, AZ, by Francis V. Crane. In 1968, Mr. Crane and his wife, Mary W.A. Crane, donated the human remains to the museum (DMNS catalogue number AC.8314). No known individual was identified. The 40 associated funerary objects are 38 potsherds (2 polychrome, 8 Black on Red, 14 Black on White, and 14 undecorated) and 2 pieces of chert (DMNS catalogue numbers AC.8533A-C).

The human remains are determined to be Ancestral Puebloan based on provenience and consultation with Puebloan tribal groups. The funerary objects associated with the human remains are diagnostic of Pre-Columbian Pueblo culture, specifically a Pueblo IV pottery type. During consultation, Puebloan tribal groups indicated Four Mile Ruin, the source site, was occupied by their ancestors. The estimated age of the human remains based on the Pueblo IV ceramics is A.D. 1300-1600.

At an unknown date, human remains representing a minimum of one individual were removed from an unspecified location by Gerald B. Fenstermaker. In 1966, Mary W.A. Crane and Francis V. Crane acquired the human remains from Mr. Fenstermaker. In 1983, the Cranes donated the human remains to the museum (DMNS catalogue number AC.9570). No known individual was identified. No associated funerary objects are present.

Mr. Fenstermaker was a collector of American Indian archeological materials. Mr. Fenstermaker identified the human remains as Pre-Columbian “Mimbres” culture, which dates from the Pueblo III period. Consultation with modern Puebloan groups indicates that the Mimbres archeological culture is deemed to be ancestral Puebloan. Morphological indications, such as occipital flattening, also support the determination that the human remains are Ancestral Puebloan. The estimated age of the human remains is A.D. 1100-1300, based on the age of known Mimbres sites.

At an unknown date, human remains representing a minimum of one individual were removed from a kiva on a private ranch near Aztec, San Juan County, NM. At an unknown date, Bernice Strawn acquired the human remains from an unnamed individual. In 1986, Ms. Strawn donated the human remains to the museum (DMNS catalogue number A1990.1). No known individual was identified. No associated funerary objects are present.

During consultation, modern Puebloan groups indicated that kivas were uniquely built by their ancestors as ceremonial and religious structures. Since the human remains were removed from a kiva, they are therefore identified as Puebloan.

Based on geographical, kinship, biological, archeological, linguistic, folklore, oral tradition, historical evidence, and expert opinion, the officials of the Denver Museum of Nature & Science have determined the cultural affiliation of the human remains and associated funerary objects described above with present-day Native American tribes. Although some oral tradition and scientific studies suggest a shared relationship between the Navajo and O'odham with the Ancestral Puebloan peoples; and during consultation the Navajo Nation emphasized that some clans express a deep affinity with Ancestral Pueblo or “Anasazi” sites, the officials of the Denver Museum of Nature & Science have determined that there is not currently a preponderance of evidence to support cultural affiliation to the human remains and their associated funerary remains with the Navajo and/or O'odham. Officials of the Denver Museum of Nature & Science have determined, based on the preponderance of the evidence, that the descendants of Ancestral Puebloans are members of the Hopi Tribe of Arizona; Ohkay Owingeh, New Mexico; Pueblo of Acoma, New Mexico; Pueblo of Cochiti, New Mexico; Pueblo of Isleta, New Mexico; Pueblo of Jemez, New Mexico; Pueblo of Laguna, New Mexico; Pueblo of Nambe, New Mexico; Pueblo of Picuris, New Mexico; Pueblo of Pojoaque, New Mexico; Pueblo of San Felipe, New Mexico; Pueblo of San Ildefonso, New Mexico; Pueblo of Sandia, New Mexico; Pueblo of Santa Ana, New Mexico; Pueblo of Santa Clara, New Mexico; Pueblo of Santa Domingo, New Mexico; Pueblo of Taos, New Mexico; Pueblo of Tesuque, New Mexico; Pueblo of Zia, New Mexico; Ysleta del Sur Pueblo of Texas; and Zuni Tribe of the Zuni Reservation, New Mexico.

Officials of the Denver Museum of Nature & Science have determined that, pursuant to 25 U.S.C. 3001(9-10), the human remains described above represent the physical remains of four individuals of Native American ancestry. Officials of Denver Museum of Nature & Science also have determined that, pursuant to 25 U.S.C. 3001(3)(A), the 40 objects described above are reasonably believed to have been placed with or near individual human remains at the time of death or later as part of the death rite or ceremony. Lastly, officials of the Denver Museum of Nature & Science have determined that, pursuant to 25 U.S.C. 3001(2), there is a relationship of shared group identity that can be reasonably traced between the Native American human remains and associated funerary objects and the Hopi Tribe of Arizona; Ohkay Owingeh, New Mexico; Pueblo of Acoma, New Mexico; Pueblo of Cochiti, New Mexico; Pueblo of Isleta, New Mexico; Pueblo of Jemez, New Mexico; Pueblo of Laguna, New Mexico; Pueblo of Nambe, New Mexico; Pueblo of Picuris, New Mexico; Pueblo of Pojoaque, New Mexico; Pueblo of San Felipe, New Mexico; Pueblo of San Ildefonso, New Mexico; Pueblo of Sandia, New Mexico; Pueblo of Santa Ana, New Mexico; Pueblo of Santa Clara, New Mexico; Pueblo of Santa Domingo, New Mexico; Pueblo of Taos, New Mexico; Pueblo of Tesuque, New Mexico; Pueblo of Zia, New Mexico; Ysleta del Sur Pueblo of Texas; and Zuni Tribe of the Zuni Reservation, New Mexico.

Representatives of any other Indian tribe that believes itself to be culturally affiliated with the human remains and associated funerary objects should contact Dr. Chip Colwell-Chanthaphonh, Denver Museum of Nature & Science, 2001 Colorado Boulevard, Denver, CO 80205, telephone (303) 370-6378, before May 19, 2008. Repatriation to the Hopi Tribe of Arizona; Ohkay Owingeh, New Mexico; Pueblo of Acoma, New Mexico; Pueblo of Cochiti, New Mexico; Pueblo of Isleta, New Mexico; Pueblo of Jemez, New Mexico; Pueblo of Laguna, New Mexico; Pueblo of Nambe, New Mexico; Pueblo of Picuris, New Mexico; Pueblo of Pojoaque, New Mexico; Pueblo of San Felipe, New Mexico; Pueblo of San Ildefonso, New Mexico; Pueblo of Sandia, New Mexico; Pueblo of Santa Ana, New Mexico; Pueblo of Santa Clara, New Mexico; Pueblo of Santa Domingo, New Mexico; Pueblo of Taos, New Mexico; Pueblo of Tesuque, New Mexico; Pueblo of Zia, New Mexico; Ysleta del Sur Pueblo of Texas; and Zuni Tribe of the Zuni Reservation, New Mexico may proceed after that date if no additional claimants come forward.

The Denver Museum of Nature & Science is responsible for notifying the Ak Chin Indian Community of the Maricopa (Ak Chin) Indian Reservation, Arizona; Gila River Indian Community of the Gila River Indian Reservation, Arizona; Hopi Tribe of Arizona; Hualapai Indian Tribe of the Hualapai Indian Reservation, Arizona; Navajo Nation, Arizona, New Mexico, & Utah; Ohkay Owingeh, New Mexico; Pueblo of Acoma, New Mexico; Pueblo of Cochiti, New Mexico; Pueblo of Isleta, New Mexico; Pueblo of Jemez, New Mexico; Pueblo of Laguna, New Mexico; Pueblo of Nambe, New Mexico; Pueblo of Picuris, New Mexico; Pueblo of Pojoaque, New Mexico; Pueblo of San Felipe, New Mexico; Pueblo of San Ildefonso, New Mexico; Pueblo of Sandia, New Mexico; Pueblo of Santa Ana, New Mexico; Pueblo of Santa Clara, New Mexico; Pueblo of Santa Domingo, New Mexico; Pueblo of Taos, New Mexico; Pueblo of Tesuque, New Mexico; Pueblo of Zia, New Mexico; Salt River Pima-Maricopa Indian Community of the Salt River Reservation, Arizona; Tohono O'odham Nation of Arizona; Ysleta del Sur Pueblo of Texas; and Zuni Tribe of the Zuni Reservation, New Mexico that this notice has been published.

Dated: March 10, 2008.
Sherry Hutt,
Manager, National NAGPRA Program.

[FR Doc. E8-8291 Filed 4-16-08; 8:45 am]

BILLING CODE 4312-50-S